OFFICE OF PERSONNEL MANAGEMENT

5 CFR Part 537

RIN 3206-AJ12

Repayment of Student Loans: Delay of Effective Date

AGENCY: U.S. Office of Personnel Management.

ACTION: Final rulemaking; delay of effective date.

SUMMARY: In accordance with the memorandum of January 20, 2001, from the Assistant to the President and Chief of Staff, entitled “Regulatory Review Plan,” published in the Federal Register on January 24, 2001, this action temporarily delays for 60 days the effective date of the rule entitled Repayment of Student Loans, published in the Federal Register on January 11, 2001, [66 FR 2790]. That rule authorizes Federal agencies to repay federally insured student loans when necessary to recruit or retain highly qualified professional, technical, or administrative personnel. To the extent that 5 U.S.C. section 553 applies to this action, it is exempt from notice and comment because it constitutes a rule of procedure under 5 U.S.C. 553(b)(A). Alternately, the Agency's implementation of this action without opportunity for public comment, effective immediately upon publication today in the Federal Register, is based on the good cause exceptions in 5 U.S.C. section 552(b)(B) and 553(d)(3) seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

DATES: The effective date of the Repayment of Student Loans, published in the Federal Register on January 11, 2001, at 66 FR 2790, is delayed for 60 days, from February 12, 2001, to a new effective date of April 12, 2001.

FOR FURTHER INFORMATION CONTACT: Michael J. Mahoney, Personnel Staffing Specialist, Office of Personnel Management, Theodore Roosevelt Building, 1900 E St. NW., Washington, DC 20415 (202) 606-0830 (FAX 202-606-0390).

U.S. Office of Personnel Management.
Steven R. Cohen,
Acting Director.

[FR Doc. 01-3104 Filed 2-6-01; 8:45 am]

BILLING CODE 6325-38-P